DEPARTMENT OF ENERGY

Federal Energy Regulatory Commission

18 CFR Part 385

[Docket No. RM07-16-000]

Filing Via the Internet

July 23, 2007.

AGENCY: Federal Energy Regulatory Commission, Department of Energy.

ACTION: Notice of proposed rulemaking.

SUMMARY: The Commission is proposing to amend its regulations to implement the latest version of its eFiling system. The upgraded system will permit most documents filed with the Commission to be submitted via the Internet. This will include, among other things, large documents such as maps and some confidential documents.

DATES: Comments are due October 1, 2007.

ADDRESSES: You may submit comments, identified by docket number by any of the following methods:

• Agency Web Site: http://ferc.gov/docs-filing/efiling.asp. Documents created electronically using word processing software should be filed in native applications or print-to-PDF format and not in a scanned format.

• Mail/Hand Delivery: Commenters unable to file comments electronically must mail or hand deliver an original and 14 copies of their comments to: Federal Energy Regulatory Commission, Secretary of the Commission, 888 First Street, NE., Washington, DC 20426.

Instructions: For detailed instructions on submitting comments and additional information on the rulemaking process, see the Comment Procedures Section of this document.

FOR FURTHER INFORMATION CONTACT: Wilbur Miller, 888 First Street, NE., Washington, DC 20426, telephone: (202) 502-8953, e-mail: wtmiller@ferc.gov.

SUPPLEMENTARY INFORMATION:

I. Background

1. On September 21, 2000, the Commission issued Order No. 619, which implemented the use of the Internet for submission of documents to the Commission for filing.¹ Such submissions were limited to categories of documents specified by the Secretary of the Commission, with the intention of gradually expanding the range of eligible documents.² The eFiling system plays an important role in the Commission's efforts to comply with the Government Paperwork Elimination Act, which requires that agencies provide the option to submit information electronically, when practicable, as a substitute for paper.³ The Commission also has established a system of electronic registration, or eRegistration, which is required for users of its eFiling system and other specified activities.⁴ Filing via the Internet is optional for eligible documents.⁵ The eFiling system now is receiving approximately one third of all documents filed at the Commission. The system is accessible through the Commission's Web site at http://www.ferc.gov/docs-filing/efiling.asp.

¹ Electronic Filing of Documents, Order No. 619, 65 FR 57088 (Sept. 21, 2000), FERC Stats. & Regs. ¶ 31,107 (2000).

² See Rule 2003(c) of the Commission's Rules of Practice and Procedure, 18 CFR 385.2003(c).

³ Pub. L. 105-277, Sec. 1702-1704 (1998); see OMB Circular A-130 Para 8.a.1(k).

⁴ 18 CFR 390.1 & 390.2.

⁵ Rule 2001(a) of the Commission's Rules of Practice and Procedure, 18 CFR 385.2001(a).

2. The Commission is proposing to implement, in late 2007, eFiling 7.0, which will significantly expand the capabilities of the system. As part of this implementation, the Commission proposes to expand the range of documents that may be filed via the Internet to include all filings, with specified exceptions. Most notably, it will be possible for regulated entities to make complex filings in their entireties in electronic format.⁶ The Commission also proposes to implement other changes and technical enhancements, and is seeking comments on the advisability of these changes and the best methods of implementing them.

⁶ The process for making tariff filings by the electric, gas, and oil industries is being addressed in Electronic Tariff Filings, Docket No. RM01-5-000. See Electronic Tariff Filings, Notice of Proposed Rulemaking, 69 FR 43929 (July 23, 2004), FERC Stats. & Regs. ¶ 32,575 (July 8, 2004); Notice of Additional Proposals and Procedures, 70 FR 40941 (July 15, 2005), FERC Stats. & Regs. ¶ 35,551 (July 6, 2005). The Commission allows Open Access Transmission Tariffs (OATTs) and revisions to be eFiled as described at http://www.ferc.gov/help/filing-guide/file-OATT.asp.

II. Discussion

A. Eligible Documents

3. Under the Commission's regulations, only “qualified documents” may be filed via the Internet, and the Secretary is authorized to specify which documents are qualified.⁷ A list of qualified documents is published on the Commission's web site. Currently, there are over forty categories of qualified documents.⁸ The Secretary also is authorized to issue filing instructions.⁹

⁷ Rule 2003(c), 18 CFR 385.2003(c).

⁸ See http://www.ferc.gov/docs-filing/efiling/docs-efiled.asp.

⁹ Rule 2003(c)(1)(ii), 18 CFR 385.2003(c)(1)(ii); see http://www.ferc.gov/docs-filing/efiling/user-guide.asp.

4. To implement eFiling 7.0, the Commission proposes to revise its regulations to permit users to submit via the Internet all documents filed in Commission proceedings pursuant to Chapter I of Title 18 of the Code of Federal Regulations, with specified exceptions. As before, the Secretary will specify the documents that may be submitted to the eFiling system, but now the Secretary would list exceptions rather than eligible documents. The Secretary would continue to issue filing instructions for allowable file formats, electronic document formats and electronic filings having multiple components. However, where specific regulations require that a filing include particular content, those regulations will continue to apply. Similarly, where specific regulations or other instructions contain requirements applicable to electronic documents, such as allowable file formats,¹⁰ those instructions also will continue to apply. The Commission invites comment on the proposals described below and generally on which documents should be accepted through the eFiling system.

¹⁰ E.g., http://www.ferc.gov/industries/electric/gen-info/qual-fac/completing.asp (Form 556 for Qualifying Facilities).

5. The Commission proposes to revise Rule 2003(c) of the its Rules of Practice and Procedure ¹¹ to provide specifically that all documents may be filed via the Internet unless excluded by the Secretary. It is not necessary, however, to revise the regulations to allow the Secretary to issue instructions regarding allowable file formats and other aspects of eFiling, as that authority is already included in Rule 2003(c)(2). Although they will not be the subject of revisions to the regulations, this notice of proposed rulemaking seeks comment on issues such as appropriate file formats and the filing of paper copies of oversized documents. Matters such as file formats and filing instructions would be contained in the instructions to be issued by the Secretary rather than being covered by regulations.

¹¹ 18 CFR 385.2003(c).

6. There are several types of filings that the Commission anticipates will not be made initially through eFiling 7.0. Electronic filing of tariffs, tariff revisions and rate change applications is the subject of a separate rulemaking.¹² Certain forms will not be accepted through eFiling. For example, the following forms are currently, and would continue to be, submitted through eForms: FERC Form No.1, FERC Form No. 2, FERC Form No. 2-A, FERC Form No. 3-Q, FERC Form No. 6, FERC Form No. 6-Q, Form 60, Form 714, and Electric Quarterly Reports.¹³ Requests for extensions of time to file these forms, however, would be submitted through eFiling.

¹² See Electronic Tariff Filings, Docket No. RM01-5-000, FERC Statutes and Regulations ¶ 35,551 (2005).

¹³ FERC Form 1-F is currently not included in eForms, so it could be efiled. The same is true with OATTs, as explained in footnote 6.

7. Finally, the Commission proposes to begin accepting, through eFiling, documents for which participants request confidential treatment pursuant to the Commission's regulations,¹⁴ including critical energy infrastructure information (CEII).¹⁵ Although the Commission proposes to begin accepting confidential documents with the eFiling 7.0 release, it does not propose to accept documents that are subject to protective order. There likely will be separate file uploads for Public, Confidential, and CEII files. Filers also will be able to revise security designations—for example, move a file from Confidential to Public. Filers will be able to load multiple files under each security class or they may upload .zip files containing numerous files if the files all have the same security class. The Commission will create separate accession numbers for the files uploaded under each security class and pass the files under each accession number to eLibrary with the appropriate security designation. This mirrors the current process for paper filings containing non-public material.

¹⁴ 18 CFR 388.112.

¹⁵ 18 CFR 388.113.

8. In some cases, the Commission will require paper copies of filings although it will also be possible to submit the documents through eFiling 7.0. This paper back-up will apply most notably to oversized documents such as maps, diagrams and drawings. Due to the size of standard monitors and other hardware and software limitations, it is impractical at this time for Commission staff to review such documents in electronic form. The Commission therefore anticipates that it will continue to need paper copies of most documents that are larger than 8.5 x 11 inches. As the Commission upgrades its resources, it expects to be able to reduce or eliminate the requirement for paper copies. The Commission also is considering whether to require paper copies of long documents, such as those exceeding 500 pages. The instructions posted by the Secretary will include directions specifying whether, and how many, paper copies of electronically filed documents are required. Appendix A contains examples of some documents that participants will be able to file via the Internet, but for which the Commission will also require paper copies.

B. File Formats

9. The acceptance through eFiling 7.0 of documents that are not in standard word processing formats will present some issues involving file formats. As noted above, the Commission has issued instructions regarding file formats for specific documents in some regulations. In addition, staff has provided instructions in specific instances. Those requirements will continue to apply. The Secretary will specify formats in filing instructions that will apply in all other cases. The need for specific formatting may arise in connection with oversized documents, spreadsheets and other documents that contain data, to ensure that the documents will be in formats that users can reasonably be expected to find accessible.

10. The Secretary has already issued instructions specifying acceptable file formats for filings submitted on CD-ROM, DVD and other electronic media. These can be found at http://www.ferc.gov/help/submission-guide/electronic-media/acceptable.asp. The Commission anticipates that these instructions will be updated concurrent with eFiling 7.0 and will apply to documents submitted through the eFiling system via the Internet. The Commission is required to establish standards for the creation, use, preservation, and disposition of electronic records to retain them in a usable format until their authorized disposition dates. The Commission therefore invites comment on the current instructions, particularly on the question whether they provide adequate accessibility and accuracy. Based on guidance from the National Archives and Records Administration (NARA), the Commission is considering accepting exclusively waveform audio (.wav) format files for audio content and either audio-video interleave (.avi) or quicktime (.mov) format files for video content except where specific regulations contain requirements for other file formats. Also, the Commission intends to enforce, to the extent it is technically able to do so, the instructions issued with the eFiling 7.0 system rather than rely on voluntary compliance. We also plan to continue to improve our technical ability to enforce the instructions. For example, when the Commission has a technical solution for reliably and rapidly detecting a password-protected document, it will prevent the uploading of that document through eFiling.

11. In some instances, the Commission may issue more detailed instructions requiring particular document formats in connection with specific types of filings. For example, the Commission's regulations set out required exhibits for applications under section 7 of the Natural Gas Act,¹⁶ such as articles of incorporation and a statement showing state authorization to do business,¹⁷ as well as various types of data.¹⁸ The Commission anticipates that the Secretary will issue instructions specifying required formats for many exhibits that must be included in section 7 applications. For documents such as Articles of Incorporation, it is likely that PDF versions would be required. For documents containing data, the Secretary likely will specify that they shall be filed in native spreadsheet application.¹⁹

¹⁶ 18 CFR 157.14.

¹⁷ 18 CFR 157.14(1)-(2) (Exhibits A and B).

¹⁸ E.g., 18 CFR 157.14(11) (Exhibit I—Market Data), (13) (Exhibit K—Cost of Facilities).

¹⁹ The Commission anticipates that spreadsheet files in native application would be required for Exhibit K and the data portions of Exhibits I, L, and N through P of Section 157.14.

12. Another formatting issue concerns the presentation of filed documents in eLibrary. In the original conception of e-Library, the Commission would convert filings in native application to PDF and to Text.²⁰ This is intended to make filings accessible to the public in an open format without the need for purchasing proprietary software. As eFiling has increased and more complex documents have been filed, the conversion tools used by the Commission have not always been able to produce accurate renditions of filed documents. The degree of reliability decreases as the complexity of the electronic files increases and the costs of staff intervention to ensure reliability are prohibitive. For example, electronic spread sheets commonly contain multiple worksheets, with each worksheet containing many potential paper pages of data in many different formats. The conversion tools however frequently convert only the first worksheet.

²⁰ See Electronic Filing of the Application for Authorization for the Issuance of Securities or the Assumption of Liabilities, 70 FR 35372 (June 20, 2005), FERC Stats. & Regs. Regulations Preambles 2001-2005 ¶ 31,188 at p. 6 (May 27, 2005); Electronic Filing of Documents, 65 FR 57088 (September 21, 2000), FERC Stats. & Regs. Regulations Preambles July 1996-December 2000 ¶ 31,107, at 31,820 (September 14, 2000).

13. The Commission therefore is considering whether to discontinue creating PDF and Text versions of submitted documents and post only the electronic files as filed with the Commission, although it intends to continue providing PDF versions of its own issuances. We are requesting comments on the effect this would have on public accessibility to the files. Discontinuing the conversion to open formats could require users to purchase proprietary software. There would also be some inconvenience to participants in Commission proceedings when they are citing to page numbers, as the vast majority of filers do not use paragraph numbers. The Commission requests comments on this proposal.

14. Should the Commission discontinue the practice of creating PDF versions of submissions, it could implement several measures. It could require that all word processing filings be made in open file formats, such as text, html, rtf, or possibly PDF. Open source file types would be the most easily accessible to all users. Alternatively, the Commission could permit filings in open file formats as well as in certain Microsoft Office formats. The Commission notes that Microsoft provides a free viewer that can be downloaded and used to view these files. Alternatively, the Commission could require that documents created with proprietary software be filed in the proprietary software along with an open source format to ensure that all viewers are able to download and read that document. Such filings would duplicate the current Commission practice of scanning all filings to create PDF formats.

15. Spreadsheets may be even more complicated because spreadsheet conversions do not retain formulas and may be difficult for the public to use. Thus, while spreadsheets need to be filed in native application, the Commission could require the filer to provide a PDF or open source file that could be used, at least, to obtain the numbers presented in the spreadsheet. The Commission invites comment on these alternatives, as well as on the possibility of discontinuing the Commission's practice of creating PDF and Text versions.

16. As a related issue, the Commission seeks input on whether the Secretary should require that documents created electronically by the filer using word processing software be filed in native applications or print-to-PDF format and not in a scanned format. The Commission has found that many ordinary text documents are being scanned and then converted to PDF formats. This removes the advantages of the native application, most notably the ability to search the text of the document and to copy and paste. It is unclear what advantage is derived from the submission of scanned PDF versions in such instances.²¹ The Commission's regulations regarding signatures are intended to allow participants to submit pleadings, sworn statements and the like without the need for physical signatures or notarization,²² which in turn should eliminate the need for scanned versions to ensure authenticity. The Commission understands that, in some situations, a scanned, non-searchable document is the only reasonable alternative. For instance, a filer may possess an exhibit only in hard copy and therefore cannot submit it in text-searchable form. The Commission would allow for such situations.

²¹ Many courts prohibit or discourage the filing of scanned PDF documents. E.g., http://www.txs.uscourts.gov/attorneys/cmecf/dcfaq.htm; http://www.utd.uscourts.gov/documents/utahdraftadminproc.pdf; http://www.med.uscourts.gov/ecf/adminprocedures.htm.

²² See Rule 2005(b)(3) of the Commission's Rules of Practice and Procedure, 18 CFR 385.2005(b)(3) (permitting declaration under oath pursuant to 28 U.S.C. 1746); Rule 2005(c) of the Commission's Rules of Practice and Procedure, 18 CFR 385.2005(c) (in electronic documents, typed characters suffice as signature).

C. Documentless Intervention

17. As part of eFiling 7.0, the Commission is proposing to permit documentless intervention. This proposal will permit users to intervene in Commission proceedings via the Internet through an online form or web interface, without actually uploading a document to serve as the motion or notice.²³ This change would not, however, affect in any way the issue of whether a participant is entitled to intervene. The Commission does not propose revising any regulation in connection with this proposed change. Instructions relating to this proposal would be issued by the Secretary.²⁴ The Commission invites comment on the proposal as described below.

²³ See Rule 214 of the Commission's Rules of Practice and Procedure, 18 CFR 385.214.

²⁴ 24 See Rule 2003 of the Commission's Rules of Practice and Procedure, 18 CFR 385.2003 (Secretary's authority for issuing instructions for filings made via the Internet).

18. The current online system allows the entry of only the docket number, the party or parties, and at least one registered contact for each party. If a person who has not eRegistered attempts to file a motion/notice to intervene with the Commission online, the system will prompt the user first to eRegister.²⁵ Under the current system the user must then attach a document that contains the basis for intervention. The proposed change to online filing of interventions will add a section for the user to enter the basis for intervention directly into the system without attaching a separate document.²⁶ The system would allow users to submit online only motions/notices of intervention and would require that users file protests, substantive comments and other matters besides the intervention as separate documents using the existing eFiling process.

²⁵ Rule 2010 requires persons eligible to receive service under that rule to eRegister pursuant to 18 C.F.R. 390.1. A person may eRegister through the FERC Online page at http://www.ferc.gov/docs-filing/ferconline.asp.

²⁶ See 18 CFR 385.214(3)(b), setting forth the acceptable bases for intervention.

19. As a part of the proposed change regarding interventions, the Commission will issue a confirmation via electronic mail for receipt of each motion/notice of intervention that it receives online. This confirmation will identify the information submitted by the filer, including the filing date and time. The Commission will also create a placeholder document in eLibrary that will specify the date and time the filing was submitted, the docket number, the name of the applicant in the docket, the name of the intervening party(ies), contact information for the intervening party, and the basis for intervening. Anyone eSubscribed to the docket will receive an eSubscription e-mail with a link to the “document” that the Commission created and added to eLibrary on behalf of the submitter. This placeholder document will also be stamped with the Commission's standard watermark. The intervening party(ies), as identified, will be added to the service list for the specified docket. Where intervention is late or is opposed on other grounds, the party(ies) attempting to intervene would be removed from the service list if and when intervention was denied.

D. Quick Comment

20. As part of eFiling 7.0, the Commission is proposing to create a “quick comment” feature that will operate in a manner similar to documentless intervention by allowing users to submit comments without uploading documents. The Commission believes that this feature will be particularly helpful to individuals who do not participate routinely in Commission proceedings and wish to make brief comments in certain proceedings, such as users impacted by a single project. To submit a documentless, or quick, comment the user will first fill out a form with name and e-mail address, and send this information to FERC. If the e-mail address provided is valid, an e-mail will be sent to the user, which will include a link to the quick comment form. The form will be pre-filled with the contact information captured during the prior step. The user will be required to input a docket number for the proceeding to which the comment will apply. At this time, the Commission anticipates that the quick comment feature will be available only for P (Hydropower Project), PF (Pre-Filing NEPA activities for proposed gas pipelines), and CP (Certificates for Interstate Natural Gas Pipelines) proceedings. After the user has identified the docket(s), he or she would enter a comment in the text box by typing or copying and pasting. Once the information is submitted to the Commission, a PDF document will be created and added to eLibrary, where it will be searchable in the same manner as all other documents in the system. As with documentless intervention, the Commission does not propose to revise any regulation in connection with this proposed change. Instructions relating to quick comment would be issued by the Secretary.²⁷ The Commission invites comments on this proposal.

²⁷ See Rule 2003.

E. Filing Deadlines for Documents Submitted Via the Internet

21. In connection with the conversion to eFiling 7.0, the Commission seeks comment on the advisability of extending hours for filing online to allow Internet filers to make submissions until midnight Eastern Standard or Daylight Savings Time. For example, a document filed via the Internet would be considered received by the Commission on the date of filing as long as the last byte of information is received by midnight Eastern Standard or Daylight Savings Time on that date.²⁸ Currently, both Internet and paper filings must be received by the close of business, i.e., 5 p.m., to be considered to have been filed on that date. Otherwise, the document is considered to have been filed on the next business day.²⁹

²⁸ See Rule 2003(c)(3).

²⁹ Rule 2001(a)(2) of the Commission's Rules of Practice and Procedure, 18 CFR 385.2001(a)(2).

22. Paper filings must be received by close of business because there must be staff available to stamp the date and time of receipt. However, internet submissions have no such limitation because the eFiling system records the date and time of the submission separately from the actual file date. The Commission is interested in receiving public comments on the effect of bifurcated filing deadlines.

F. Technical Conference

23. Commission staff may conduct one or more technical conferences to discuss issues relating to electronic file format and electronic document standards. Any conference will be held prior to the deadline for filing comments on this proposal and will be separately noticed.

III. Information Collection Statement

24. Office of Management and Budget (OMB) regulations require OMB to approve certain information collection requirements imposed by agency rule.³⁰ This Final Rule does not contain any information collection requirements and compliance with the OMB regulations is thus not required.

³⁰ 5 CFR 1320.12

IV. Environmental Analysis

25. The Commission is required to prepare an Environmental Assessment or an Environmental Impact Statement for any action that may have a significant adverse effect on the human environment.³¹ Issuance of this Final Rule does not represent a major federal action having a significant adverse effect on the quality of the human environment under the Commission's regulations implementing the National Environmental Policy Act. Part 380 of the Commission's regulations lists exemptions to the requirement to draft an Environmental Analysis or Environmental Impact Statement. Included is an exemption for procedural, ministerial or internal administrative actions.³² This rulemaking is exempt under that provision.

³¹ Order No. 486, Regulations Implementing the National Environmental Policy Act, 52 FR 47897 (Dec. 17, 1987), FERC Stats. & Regs., Regulations Preambles 1986-1990 ¶ 30,783 (1987).

³² 18 CFR 380.4(1) and (5).

V. Regulatory Flexibility Act Certification

26. The Regulatory Flexibility Act of 1980 (RFA) ³³ generally requires a description and analysis of final rules that will have significant economic impact on a substantial number of small entities. This Final Rule concerns procedural matters and is expected to increase the ease and convenience of filing. The Commission certifies that it will not have a significant economic impact upon participants in Commission proceedings. An analysis under the RFA is not required.

³³ 5 U.S.C. 601-612.

VI. Comment Procedures

27. The Commission invites interested persons to submit comments on the matters and issues proposed in this notice to be adopted, including any related matters or alternative proposals that commenters may wish to discuss. Comments are due October 1, 2007. Comments must refer to Docket No. RM07-16-000, and must include the commenter's name, the organization he/she represents, if applicable, and his/her address in the comments.

28. The Commission encourages comments to be filed electronically via the eFiling link on the Commission's Web site at http://ferc.gov/docs-filing/efiling.asp. The Commission accepts most standard word processing formats. Documents created electronically using word processing software should be filed in native applications or print-to-PDF format and not in a scanned format. Commenters filing electronically do not need to make paper filings. It is not necessary to serve copies of rulemaking comments on other commenters.

29. Commenters that are not able to file comments electronically must send an original and 14 copies of their comments to: Federal Energy Regulatory Commission, Secretary of the Commission, 888 First Street, NE., Washington, DC 20426.

30. All comments will be placed in the Commission's public files and may be viewed, printed, or downloaded remotely as described in the Document Availability section below.

VII. Document Availability

31. In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

32. From FERC's Home Page on the Internet, this information is available on eLibrary. The full text of this document is available on eLibrary in PDF and Microsoft Word format for viewing, printing, and/or downloading. To access this document in eLibrary, type the docket number excluding the last three digits of this document in the docket number field.

33. User assistance is available for eLibrary and the FERC's website during normal business hours from our Help line at (202) 502-8222 or the Public Reference Room at (202) 502-8371 Press 0, TTY (202) 502-8659. E-mail the Public Reference Room at public.referenceroom@ferc.gov.

List of Subjects in 18 CFR Part 385

Administrative practice and procedure, Electric utilities, Penalties, Pipelines, Reporting and recordkeeping requirements.

By direction of the Commission.
Kimberly D. Bose,
Secretary.

In consideration of the foregoing, the Commission proposes to amend part 385, Chapter I, Title 18, Code of Federal Regulations, as follows.

PART 385—RULES OF PRACTICE AND PROCEDURE

1. The authority citation for part 385 continues to read as follows:

Authority: 5 U.S.C. 551-557; 15 U.S.C. 717-717z, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988).

2. Section 385.2001 is amended by revising paragraph (a)(1)(iii) to read as follows:

§ 385.2001 Filings (Rule 2001).

(a) * * *

(1) * * *

(iii) By filing via the Internet pursuant to Rule 2003 through the links provided at http://www.ferc.gov.

* * * * *

3. Section 385.2003 is amended by revising paragraph (c) to read as follows:

§ 385.2003 Specifications (Rule 2003).

* * * * *

(c) Filing via the Internet. (1) All documents filed under this Chapter may be filed via the Internet except those listed by the Secretary. Except as otherwise specifically provided in this Chapter, filing via the Internet is in lieu of other methods of filing. Internet filings must be made in accordance with instructions issued by the Secretary and made available online at http://www.ferc.gov. Provisions of this chapter or directions from the Commission containing requirements as to the content and format of specific types of filings remain applicable.

(2) The Secretary will make available on the Commission's web site a list of document types that may not be filed via the Internet, as well as instructions pertaining to allowable electronic file and document formats, the filing of complex documents, whether paper copies are required, and procedural guidelines.

(3) For purposes of statutes or regulations governing timeliness, a document filed via the Internet will be deemed to have been received by the Commission at the time the last byte of the document is received by the Commission.

* * * * *

Note: The following appendix will not appear in the Code of Federal Regulations.

APPENDIX A

(Partial list of eFiling-eligible documents for which paper copies may be required.)

Environmental and Electric Transmission Filings

• USGS 7.5 minute topographic maps.

• National Wetland Inventory maps.

• Alignment sheets.

• Aerial photographs.

• Major waterbody crossing plans and HDD (horizontal directional drill) diagrams.

• Drawings/figures showing project boundaries, footprints, building locations, etc.

• Drawings of valve and piping details at compressor stations, meter stations and pipeline interconnections.

Liquefied Natural Gas (LNG)

• Engineering diagrams and plot plans.

• Process flow diagrams.

• Detailed piping and instrumentation diagrams (PSID's).

• Equipment/tank detailed drawings of LNG storage tanks and process equipment.

• Hazard detection and control location diagrams/plot plans.

Pipeline Engineering

• Flow diagrams required under Exhibits G and G-1 (18 CFR 157.14).

Storage

• Isopach, isobaric, structural, and stratigraphic maps.

• Well logs.

[FR Doc. E7-14724 Filed 8-1-07; 8:45 am]

BILLING CODE 6717-01-P